DEPARTMENT OF DEFENSE

Department of the Navy

32 CFR Part 706

Certifications and Exemptions Under the International Regulations for Preventing Collisions at Sea, 1972

AGENCY: Department of the Navy, DoD.

ACTION: Final rule.

SUMMARY: The Department of the Navy (DoN) is amending its certifications and exemptions under the International Regulations for Preventing Collisions at Sea, 1972 (72 COLREGS), to reflect that the Deputy Assistant Judge Advocate General (DAJAG) (Admiralty and Maritime Law) has determined that USS MANCHESTER (LCS 14) is a vessel of the Navy which, due to its special construction and purpose, cannot fully comply with certain provisions of the 72 COLREGS without interfering with its special function as a naval ship. The intended effect of this rule is to warn mariners in waters where 72 COLREGS apply.

DATES: This rule is effective August 2, 2017 and is applicable beginning July 25, 2017.

FOR FURTHER INFORMATION CONTACT: Lieutenant Commander Kyle Fralick, JAGC, U.S. Navy, Admiralty Attorney, (Admiralty and Maritime Law), Office of the Judge Advocate General, Department of the Navy, 1322 Patterson Ave. SE., Suite 3000, Washington Navy Yard, DC 20374-5066, telephone number: 202-685-5040.

SUPPLEMENTARY INFORMATION: Pursuant to the authority granted in 33 U.S.C. 1605, the DoN amends 32 CFR part 706.

This amendment provides notice that the DAJAG (Admiralty and Maritime Law), under authority delegated by the Secretary of the Navy, has certified that USS MANCHESTER (LCS 14) is a vessel of the Navy which, due to its special construction and purpose, cannot fully comply with the following specific provisions of 72 COLREGS without interfering with its special function as a naval ship: Annex I paragraph 2(a)(i), pertaining to the height of the forward masthead light above the hull; Annex I, paragraph 2(f)(i), pertaining to the placement of the masthead light or lights above and clear of all other lights and obstructions; Annex I, paragraph 3(a), pertaining to the location of the forward masthead light in the forward quarter of the ship, and the horizontal distance between the forward and after masthead light; Annex I, paragraph 3(c), pertaining to the task light's horizontal distance from the fore and aft centerline of the vessel in the athwartship direction; Rule 21(a) and Annex I, paragraph 9(b), pertaining to the visibility of tasks lights (restricted maneuverability) obstructions; Rule 27(b)(i) and Annex I, paragraph 9(b)(i), pertaining to the arc of visibility of middle tasks lights. The DAJAG (Admiralty and Maritime Law) has also certified that the lights involved are located in closest possible compliance with the applicable 72 COLREGS requirements.

Moreover, it has been determined, in accordance with 32 CFR parts 296 and 701, that publication of this amendment for public comment prior to adoption is impracticable, unnecessary, and contrary to public interest since it is based on technical findings that the placement of lights on this vessel in a manner differently from that prescribed herein will adversely affect the vessel's ability to perform its military functions.

List of Subjects in 32 CFR Part 706

Marine safety, Navigation (water), and Vessels.

For the reasons set forth in the preamble, the DoN amends part 706 of title 32 of the Code of Federal Regulations as follows:

PART 706—CERTIFICATIONS AND EXEMPTIONS UNDER THE INTERNATIONAL REGULATIONS FOR PREVENTING COLLISIONS AT SEA, 1972

1. The authority citation for part 706 continues to read as follows:

Authority: 33 U.S.C. 1605.

2. Section 706.2 is amended:

a. In Table One, by adding in alpha numerical order by vessel number, an entry for USS MANCHESTER (LCS 14);

b. In Table Four, under paragraph 15, by adding in alpha numerical order by vessel number, an entry for USS MANCHESTER (LCS 14);

c. In Table Four, under paragraph 16, by adding in alpha numerical order by vessel number, an entry for USS MANCHESTER (LCS 14);

d. In Table Four, under paragraph 27, by adding in alpha numerical order by vessel number, an entry for USS MANCHESTER (LCS 14); and

e. In Table Five, by adding in alpha numerical order by vessel number, an entry for USS MANCHESTER (LCS 14).

The additions read as follows:

§ 706.2 Certifications of the Secretary of the Navy under Executive Order 11964 and 33 U.S.C. 1605.

* * * * *

Table One
Vessel | No. | Distance in meters of forward masthead light below minimum required height. § 2(a)(i), Annex I
* * * * * * *
USS MANCHESTER | LCS 14 | 4.3
* * * * * * *

* * * * *

Table Four
* * * * * * *

* * * * *

15. * * *

Vessel | No. | Horizontal distances from the fore and aft centerline of the vessel in the athwartship direction
* * * * * * *
USS MANCHESTER | LCS 14 | Upper—0.16 meters. Middle—1.27 meters. Lower—1.24 meters.
* * * * * * *

16. * * *

Vessel | No. | Obstruction angle relative ship's headings
* * * * * * *
USS MANCHESTER | LCS 14 | 72° thru 74°. 286° thru 288°.
* * * * * * *

27. On the following ships, the arc of visibility of the middle task light (restricted maneuverability), required by the rule 27(b)(i) and Annex I, paragraph 9(b)(i), may be obstructed at the following angles relative to ship's heading;

Vessel | No. | Obstruction angle relative ship heading
USS MANCHESTER | LCS 14 | 47° thru 59°. 301° thru 313°.

* * * * *

Table Five
Vessel | No. | Masthead lights not over all other lights and obstructions. Annex I, sec. 2(f) | Forward masthead light not in forward quarter of ship. Annex I, sec. 3(a) | After masthead light less than ½ ship's length aft of forward masthead light. Annex I, sec. 3(a) | Percentage horizontal separation attained
* * * * * * *
USS MANCHESTER | LCS 14 |  | X | X | 14.5
* * * * * * *

Approved: July 25, 2017.
A.S. Janin,
Captain, USN, JAGC, Deputy Assistant Judge Advocate, General (Admiralty and Maritime Law).
Dated: July 27, 2017.
B.D. Corcoran,
Lieutenant, Judge Advocate General's Corps, U.S. Navy, Alternate Federal Register Liaison Officer.

[FR Doc. 2017-16257 Filed 8-1-17; 8:45 am]

BILLING CODE 3810-FF-P